DEPARTMENT OF TRANSPORTATION

Federal Aviation Administration

14 CFR Part 39

[Docket No. FAA-2004-19463; Directorate Identifier 2004-NE-14-AD; Amendment 39-14029; AD 2005-07-05]

RIN 2120-AA64

Airworthiness Directives; General Electric Company CF6-45A, CF6-50A, CF6-50C, and CF6-50E Series Turbofan Engines; Correction

AGENCY: Federal Aviation Administration, DOT.

ACTION: Final rule; correction.

SUMMARY: This document makes a correction to Airworthiness Directive (AD) 2005-07-05. That AD applies to General Electric Company (GE) CF6-45A, CF6-50A, CF6-50C, and CF6-50E series turbofan engines that have not incorporated GE Service Bulletin (SB) No. CF6-50 S/B 72-1239, Revision 1, dated September 24, 2003, or that have not incorporated paragraph 3.B. of GE SB No. CF6-50 S/B 72-1239, original issue, dated May 29, 2003. We published AD 2005-07-05 in the Federal Register on March 30, 2005, (70 FR 16096). A descriptive phrase was inadvertently left out of compliance paragraph (f). This document corrects compliance paragraph (f). In all other respects, the original document remains the same.

DATES: Effective June 9, 2005.

FOR FURTHER INFORMATION CONTACT: Karen Curtis, Aerospace Engineer, Engine Certification Office, FAA, Engine and Propeller Directorate, 12 New England Executive Park, Burlington, MA 01803; telephone (781) 238-7192; fax (781) 238-7199.

SUPPLEMENTARY INFORMATION: A final rule AD, FR Doc. 05-6107, that applies to (GE) CF6-45A, CF6-50A, CF6-50C, and CF6-50E series turbofan engines that have not incorporated GE Service Bulletin (SB) No. CF6-50 S/B 72-1239, Revision 1, dated September 24, 2003, or that have not incorporated paragraph 3.B. of GE SB No. CF6-50 S/B 72-1239, original issue, dated May 29, 2003, was published in the Federal Register on March 30, 2005, (70 FR 16096). The following correction is needed:

§ 39.13 [Corrected]

On page 16098, in the first column, in compliance paragraph (f), the third line, “cycles-since-new (CSN), or 3,000 cycles-” is corrected to read “cycles-since-new (CSN) on the TMF assembly, or 3,000 cycles-”.

Issued in Burlington, MA, on June 2, 2005.
Francis A. Favara,
Acting Manager, Engine and Propeller Directorate, Aircraft Certification Service.

[FR Doc. 05-11442 Filed 6-8-05; 8:45 am]

BILLING CODE 4910-13-P